DEPARTMENT OF COMMERCE

International Trade Administration

[C-507-501]

Certain In-Shell Pistachios From the Islamic Republic of Iran: Extension of Time Limit for Final Results of Countervailing Duty Administrative Review

AGENCY: Import Administration, International Trade Administration, Department of Commerce

EFFECTIVE DATE: August 11, 2005.

FOR FURTHER INFORMATION CONTACT: Darla Brown or Eric B. Greynolds, AD/CVD Operations, Office 3, Import Administration, International Trade Administration, U.S. Department of Commerce, 14th Street and Constitution Avenue NW., Washington, DC 20230; telephone: (202) 482-2786.

Background

The Department of Commerce (the Department) published a countervailing duty order on certain in-shell pistachios from the Islamic Republic of Iran (Iran) on March 11, 1986. See Final Affirmative Countervailing Duty Determination and Countervailing Duty Order: In-shell Pistachios from Iran, 51 FR 8344. On April 28, 2004, the Department initiated an administrative review of the countervailing duty order on certain in-shell pistachios from Iran. See 69 FR 23170. The administrative review covers the period January 1, 2003, through December 31, 2003. The respondent in this administrative review is the Tehran Negah Nima Trading Company (Nima). On April 7, 2005, the Department published in the Federal Register its preliminary results. See Certain In-shell Pistachios from the Islamic Republic of Iran: Preliminary Results of Countervailing Duty Administrative Review, 70 FR 17653 (Preliminary Results). The final results are currently due no later than August 5, 2005.

Extension of Time Limit for Final Results of Review

Section 751(a)(3)(A) of the Tariff Act of 1930, as amended (the Act), requires the Department to issue final results in an administrative review within 120 days after the date on which the preliminary results were published. However, if it is not practicable to complete the final results of review within this time period, section 751(a)(3)(A) of the Act allows the Department to extend the time limit for the final results to a maximum of 180 days.

In order to accommodate the scheduling of the public hearing, which was requested by petitioners ¹ on May 9, 2005, we find that it is not practicable for the Department to complete the final results of the administrative review within the 120-day statutory time frame. Therefore, the Department is extending the time limits for completion of the final results until September 6, 2005.

¹ Petitioners include the California Pistachios Commission (CPC) and its members and a domestic interested party, Cal Pure Pistachios, Inc (Cal Pure).

This notice is issued and published in accordance with section 751(a)(3)(A) of the Act.

Dated: August 4, 2005.
Barbara E. Tillman,
Acting Deputy Assistant Secretary for Import Administration.

[FR Doc. E5-4356 Filed 8-10-05; 8:45 am]

BILLING CODE 3510-DS-P